DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before June 10, 2022.

ADDRESSES: You may submit comments identified by Docket No. MSHA-2022-0022 by any of the following methods:

1. Federal eRulemaking Portal: https://www.regulations.gov. Follow the instructions for submitting comments for MSHA-2022-0022.

2. Fax: 202-693-9441.

3. Email: petitioncomments@dol.gov.

4. Regular Mail or Hand Delivery: MSHA, Office of Standards, Regulations, and Variances, 201 12th Street South, Suite 4E401, Arlington, Virginia 22202-5452,

Attention: S. Aromie Noe, Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2022-007-C.

Petitioner: Century Mining, LLC, 200 Chapel Brook Drive, Bridgeport, West Virginia, 26330.

Mine: Longview Mine, MSHA ID No. 46-09447 located in Barbour County, West Virginia.

Regulation Affected: 30 CFR 75.802(c), Protection of high-voltage circuits extending underground.

Modification Request: The petitioner requests a modification of 30 CFR 75.802(c) to permit the use of visible disconnect switches in the resistance-grounded substation at the surface area of the underground mine, approximately 1,100 feet from a vertical bore hole.

The petitioner states that:

(a) The mine is currently under construction.

(b) The mine will utilize the room and pillar and longwall mining methods to extract coal and will employ approximately 375 coal miners.

The petitioner proposes the following alternative method:

(a) Use the solid blade disconnect switches (hook switches) to disconnect the high voltage circuits entering the underground mine. The solid blade disconnect switches are located in the resistance-grounded substation on the surface area of the underground mine—approximately 1,100 feet from the surface bore hole.

(b) Use a continuous, fully insulated, mine power feeder cable extending from the resistance grounded substation, down the bore hole, and into the underground mine workings. The mine power feeder cable is hung on insulated hangers and supported on extra high strength messenger cable on the surface between wooden power poles. The continuous nature of this cable eliminates additional connections at the surface bore hole where there will be increased risks of voltage tracking, connection failures, and exposure to lightning.

(c) Leave the mine power feeder cable connected to lightning arrestors in the resistance-grounded substation, even when the visible disconnect switches (hook switches) in the station are open.

(d) Install an underground switch house in the mine, within 50 feet of the underground bore hole where the mine power feeder enters the mine. The switch house provides the mine personnel a load break vacuum circuit breaker (VCB), visible disconnect, grounding switch, and lock out station in-mine. This arrangement eliminates the need for a miner to travel to the surface to remove power while doing in-mine power work.

(e) The switch house has a high voltage VCB with an integral visible disconnect and an output grounding switch. The visible disconnect is interlocked with the VCB to ensure the VCB removes the load before the visible disconnect is opened. A lockout means is provided at the switch house for the outgoing high voltage circuit. To complete work on the inby power system, the switch house will be utilized to disconnect and ground the inby circuits.

(f) The switch house has protective relaying for overcurrent, short circuit, and grounded phase protection. A high voltage ground monitor is provided in the switch house to monitor the inby high voltage circuit. A test circuit for secondary current injection is provided so mine personnel can complete required protective relay testing, helping to ensure proper operation of the inby high voltage circuits.

(g) Within 60 days after the Proposed Decision and Order (PDO) becomes final, the petitioner will submit proposed revisions for its approved part 48 training plan to the District Manager. The proposed revisions will include initial and refresher training regarding compliance with the terms and conditions of the PDO.

The petitioner asserts that the alternative method proposed will at all times guarantee no less than the same measure of protection afforded the miners under the mandatory standard.

Song-ae Aromie Noe,
Director, Office of Standards, Regulations, and Variances.

[FR Doc. 2022-10114 Filed 5-10-22; 8:45 am]

BILLING CODE 4520-43-P